DEPARTMENT OF ENERGY

Environmental Management Site-Specific Advisory Board, Idaho Cleanup Project; Meeting

AGENCY: Office of Environmental Management, Department of Energy.

ACTION: Notice of open in-person/virtual hybrid meeting.

SUMMARY: This notice announces an in-person/virtual hybrid meeting of the Environmental Management Site-Specific Advisory Board (EM SSAB), Idaho Cleanup Project (ICP). The Federal Advisory Committee Act requires that public notice of this meeting be announced in the Federal Register.

DATES: Thursday, October 21, 2021; 8:00 a.m.-2:35 p.m.

The opportunities for public comment are at 9:50 a.m. and 2:20 p.m. MT.

These times are subject to change; please contact the ICP Citizens Advisory Board (CAB) Administrator (below) for confirmation of times prior to the meeting.

ADDRESSES: This hybrid meeting will be open to the public virtually via Zoom only. To attend virtually, please contact Jordan Davies, ICP CAB Administrator, by email jdavies@northwindgrp.com or phone (720) 452-7379, no later than 5:00 p.m. MT on Tuesday, October 19, 2021.

Board members, Department of Energy (DOE) representatives, agency liaisons, and support staff will participate in-person at: Sun Valley Inn, 1 Sun Valley Road, Sun Valley, ID 83353.

FOR FURTHER INFORMATION CONTACT: Jordan Davies, ICP CAB Administrator, by phone (720) 452-7379 or email jdavies@northwindgrp.com or visit the Board's internet homepage at https://energy.gov/em/icpcab.

SUPPLEMENTARY INFORMATION: Purpose of the Board: The purpose of the Board is to make recommendations to DOE-EM and site management in the areas of environmental restoration, waste management, and related activities.

Tentative Agenda (agenda topics may change up to the day of the meeting; please contact Jordan Davies for the most current agenda):

1. Recent Public Outreach

2. Idaho Cleanup Project Overview

3. Integrated Waste Treatment Unit (IWTU) Update

4. Long-Term Storage Update

5. Calcine: Hot Isostatic-Pressing vs. Vitrification

6. Status of Idaho Comprehensive Environmental Response, Compensation, and Liability Act (CERCLA) Disposal Facility Explanation of Significant Differences

7. Shoshone-Bannock Tribes' Cultural History at the Idaho National Laboratory Site

Public Participation: The in-person/online virtual hybrid meeting is open to the public via Zoom only. To sign-up for public comment, please contact the ICP CAB Administrator (above) no later than 5:00 p.m. MT on Tuesday, October 19, 2021. In addition to participation in the live public comment sessions identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by writing or calling Jordan Davies, ICP CAB Administrator, phone (720) 452-7379 or email jdavies@northwindgrp.com. Minutes will also be available at the following website: https://www.energy.gov/em/icpcab/listings/cab-meetings.

Signed in Washington, DC, on September 17, 2021.
LaTanya Butler,
Deputy Committee Management Officer.

[FR Doc. 2021-20499 Filed 9-21-21; 8:45 am]

BILLING CODE 6450-01-P